DEPARTMENT OF ENERGY

Federal Energy Regulatory Commission

[Project No. 13287-000]

City of New York; Notice of Competing Preliminary Permit Application Accepted for Filing, and Soliciting Comments, and Motions To Intervene

October 9, 2008.

On September 15, 2008, the city of New York filed a competing application, pursuant to section 4(f) of the Federal Power Act, proposing to study the feasibility of the West of Hudson Hydroelectric Project, which comprises four development sites, Schoharie, Cannonsville, Pepacton and Neversink, located on the Schoharie Creek, West Branch Delaware River, East Branch Delaware River, and the Neversink River, in Schoharie, Delaware and Sullivan Counties, New York.

The proposed West of Hudson Hydroelectric Project would consist of the following developments:

Cannonsville Development

(1) An existing 2,800-feet-long, 175-foot-high earthen Cannonsville Dam; (2) an existing reservoir having a surface area of 4,800 acres and a storage capacity of 300,000 acre-feet and normal water surface elevation of 1,150 feet mean sea level; (3) a proposed 78-inch-diameter penstock; (4) a proposed powerhouse containing four new generating units having an installed capacity of 12.1-megawatts; (5) a proposed tailrace; (6) a proposed 750-foot-long, 46-kilovolt transmission line; and (7) appurtenant facilities. The proposed Cannonsville Development would have an average annual generation of 25.46-gigawatt-hours.

Neversink Development

(1) An existing 2,830-foot-long, 195-foot-high earthen Neversink Dam; (2) an existing reservoir having a surface area of 1,477.8 acres and a storage capacity of 112,000 acre-feet and normal water surface elevation of 1,440 feet mean sea level; (3) a proposed powerhouse containing two new generating units having an installed capacity of 1.65-megawatts; (4) a proposed tailrace; (5) a proposed 2,400-foot-long, 4.8-kilovolt transmission line; and (6) appurtenant facilities. The proposed Neversink Development would have an average annual generation of 7.79-gigawatt-hours.

Pepacton Development

(1) An existing 2,450-foot-long, 204-foot-high earthen Downsville Dam; (2) an existing reservoir having a surface area of 5,700 acres and a storage capacity of 441,000 acre-feet and normal water surface elevation of 1,280 feet mean sea level; (3) a proposed powerhouse containing two new generating units having an installed capacity of 3.1-megawatts; (4) a proposed tailrace; (5) an existing 800-feet-long, 46-kilovolt transmission line; and (6) appurtenant facilities. The proposed Pepacton Development would have an average annual generation of 9.04-gigawatt-hours.

Schoharie Development

(1) An existing 2,273-foot-long, 183-foot-high earthen Gilboa Dam; (2) an existing reservoir having a surface area of 1,130 acres and a storage capacity of 58,800 acre-feet and normal water surface elevation of 1,130 feet mean sea level; (3) four penstocks; (4) a powerhouse containing three new generating units having an installed capacity of 12.9-megawatts; (5) a tailrace; (6) a proposed 15,000-feet-long, 13.8-kilovolt transmission line; and (7) appurtenant facilities. The proposed Schoharie Development would have an average annual generation of 31.8-gigawatt-hours.

Applicant Contact: For West of Hudson Hydroelectric Project, Mr. Robert M. Loughney, Esq., Couch White, LLP, 540 Broadway, P.O. Box 22222, Albany, NY 12201, phone (518) 426-4600.

FERC Contact: Patricia W. Gillis, (202) 502-8735.

Competing Application: This application competes with Project No. 13222-000 filed May 9, 2008. Competing applications were required to be filed on or before September 18, 2008.

Deadline for filing comments, motions to intervene: 60 days from the issuance of this notice. Comments and motions to intervene may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp.

Enter the docket number (P-13287-000) in the docket number field to access the document. For assistance, call toll-free 1-866-208-3372.

Kimberly D. Bose,
Secretary.

[FR Doc. E8-24706 Filed 10-16-08; 8:45 am]

BILLING CODE 6717-01-P